DEPARTMENT OF JUSTICE

Notice of Lodging of Proposed Consent Decree Under the Clean Water Act

On July 23, 2013, the Department of Justice lodged a proposed Consent Decree with the United States District Court for the Western District of Texas in the lawsuit entitled United States and State of Texas v. San Antonio Water System, Civil Action No. 5:13-cv-00666.

This civil action for injunctive relief and civil penalties was initiated pursuant to Sections 301 and 309 of the Clean Water Act (“CWA”), 33 U.S.C. §§ 1311 and 1319, and provisions of the Texas Water Code (“TWC”) against the San Antonio Water System (“SAWS”), San Antonio, Bexar County, Texas, for: (a) Discharges of pollutants, including discharges from unpermitted point sources, in violation of Section 301 of the CWA, 33 U.S.C. § 1311, and provisions of the TWC; and (b) violations of effluent limitations and other conditions established in National Pollutant Discharge Elimination System (also known as Texas Pollutant Discharge Elimination System or TPDES) permits issued to SAWS. Under the proposed Consent Decree, SAWS has agreed to implement comprehensive injunctive relief measures designed to address and eliminate illegal discharges or sanitary sewer overflows and violations of effluent limits. SAWS will pay a $2.6 million civil penalty, which will be split between the United States and the State.

The publication of this notice opens a period for public comment on the Consent Decree. Comments should be addressed to the Acting Assistant Attorney General, Environment and Natural Resources Division, and should refer to United States and State of Texas v. San Antonio Water System, D.J. Ref. No. 90-5-1-1-09215. All comments must be submitted no later than thirty (30) days after the publication date of this notice. Comments may be submitted either by email or by mail:

To submit comments: | Send them to:
By e-mail | pubcomment-ees.enrd@usdoj.gov.
By mail | Acting Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $21.50 (25 cents per page reproduction cost) payable to the United States Treasury for a copy of the Consent Decree without the Appendices, or a check or money order for $39.00 for a copy of the Consent Decree with Appendices A-H.

Robert E. Maher, Jr.,
Assistant Section Chief, Environmental Enforcement Section, Environment and Natural Resources Division.

[FR Doc. 2013-18404 Filed 7-30-13; 8:45 am]

BILLING CODE 4410-15-P